DEPARTMENT OF AGRICULTURE

Agricultural Marketing Service

[Doc. No. AMS-LPS-16-0089]

Request for Approval of a New Information Collection for the Processed Egg and Egg Products Verification Program

AGENCY: Agricultural Marketing Service, USDA.

ACTION: Notice and Request for Comments.

SUMMARY: In accordance with the Paperwork Reduction Act of 1995 (44 U.S.C. 3501-3520), this notice announces the United States Department of Agriculture (USDA), Agricultural Marketing Service's (AMS) intention to request approval from the Office of Management and Budget (OMB), for a new information collection for the Processed Egg and Egg Products Verification Program. One new form is introduced in this information collection.

DATES: Submit comments on or before January 23, 2017.

ADDRESSES: Interested persons are invited to submit comments concerning this notice by using the electronic process available at www.regulations.gov. Written comments may also be submitted to Quality Assessment Division; Livestock, Poultry, and Seed Program; Agricultural Marketing Service, USDA; 1400 Independence Avenue SW; Room 3932-S, Stop 0258; Washington, DC 20250-0258; or by facsimile to (202) 690-2746. All comments should reference the docket number AMS-LPS-16-0089, the date of submission, and the page number of this issue of the Federal Register. All comments received will be posted without change, including any personal information provided, at www.regulations.gov and will be included in the record and made available to the public.

FOR FURTHER INFORMATION CONTACT: Jeff Waite, Branch Chief, Auditing Services Branch, Quality Assessment Division (QAD); (202) 720-4411; or email Jeffrey.Waite@ams.usda.gov.

SUPPLEMENTARY INFORMATION:

Overview of This Information Collection

(1) Agency: USDA, AMS.

(2) Title: Processed Egg and Egg Products Verification Program.

(3) OMB Number: 0581-NEW.

(4) Type of Request: New Information Collection.

(5) Abstract:

The Agricultural Marketing Act of 1946 (AMA) (7 U.S.C. 1621-1627) directs and authorizes the USDA to develop and improve standards of quality, grades, grading programs, and certification services which facilitate the marketing of agricultural products. The regulation in 7 CFR part 62—Livestock, Meat, and Other Agricultural Commodities (Quality Systems Verification Programs (QSVP)) provides for voluntary, audit-based, user-fee funded programs that allow applicants to have program documentation and program processes assessed by AMS auditors and other USDA officials. AMS also provides other types of voluntary services under these regulations, including contract and specification acceptance services and export verification services. The Processed Egg and Egg Products Export Verification Program is a voluntary export verification program that aids domestic food manufacturers in exporting processed food products containing egg to other countries. It is a voluntary program, and respondents request or apply for the specific service. Once the verification service is performed, the respondent is provided documentation that their product meets export requirements, in the form of an export certificate. AMS intends to create an export certificate specifically for this program, namely the USDA Processed Egg and Egg Products Export Certificate, Form LPS-234. In order to complete the export certificate, AMS must gather information from the respondent, including (but not limited to): Name and address of product manufacturer; exporter and importer information; country of destination; point of entry; product origin (state and/or county); place of loading; means of transport; dates of pack; type of packing material; name(s) of product(s); number of package(s); net weight; and any other import information requested by the importing country.

The information collection requirements in this request are essential to carry out the intent of AMA, to provide the respondents the type of service they request, and to administer the program.

Upon Office of Management and Budget (OMB) approval of the new Form LPS-234 and the information collection package, AMS will request OMB approval to merge the new form and this information collection into the currently approved information collection OMB control number 0581-0128 approved on July 8, 2014.

(6) Estimate of Burden: Public reporting burden for this collection of information is estimated to average 12 minutes per response.

(7) Respondents: Exporters of processed egg and egg products.

(8) Estimated Number of Respondents: 43.

(9) Estimated Number of Responses per Respondent: 15.

(10) Estimated Number of Responses: 645.

(11) Estimated Total Annual Burden on Respondents: 129 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this document will be summarized and included in the request for OMB approval. All responses will become a matter of public record, including any personal information provided.

Dated: November 18, 2016.
Elanor Starmer,
Administrator, Agricultural Marketing Service.

[FR Doc. 2016-28250 Filed 11-22-16; 8:45 am]

BILLING CODE 3410-02-P